DEPARTMENT OF AGRICULTURE

Forest Service

Fresno County Resource Advisory Committee

AGENCY: Forest Service, USDA.

ACTION: Notice of meeting.

SUMMARY: The Fresno County Resource Advisory Committee will meet in Clovis, California. The purpose of the meeting is to review funded projects, discuss 2006 project submittal process and new committee appointments regarding the Secure Rural Schools and Community Self-Determination Act of 2000 (Public Law 106-393) for expenditures of Payments to States Fresno County Title II funds.

DATES: The meeting will be held November 1 from 6:30 p.m. to 9 p.m.

ADDRESSES: The meeting will be held at the Sierra National Forest, 1600 Tollhouse Road, Clovis, California, 93612. Send written comments to Robbin Ekman, Fresno County Resource Advisory Committee Coordinator, c/o Sierra National Forest, High Sierra Ranger District, 29688 Auberry Road, Prather, CA 93651 or electronically to rekman@fs.fed.us.

FOR FURTHER INFORMATION CONTACT: Robbin Ekman, Fresno County Resource Advisory Committee Coordinator, (559) 855-5355 ext. 3341.

SUPPLEMENTARY INFORMATION: The meeting is open to the public. Committee discussion is limited to Forest Service staff and Committee members. However, persons who wish to bring Payments to States Fresno County Title II project matters to the attention of the Committee may file written statements and the Committee staff before or after the meeting.

Public sessions will be provided and individuals who made written requests by August 10, 2004 will have the opportunity to address the Committee at those sessions. Agenda items to be covered include: (1) Call for new projects process; (2) Recruitment for new members; (3) Review of funded projects and (4) Public comments.

Dated: October 4, 2005.
Ray Porter,
District Ranger.

[FR Doc. 05-20319 Filed 10-7-05; 8:45 am]

BILLING CODE 3410-11-M